DEPARTMENT OF COMMERCE

Foreign-Trade Zones Board

[B-49-2022]

Foreign-Trade Zone 28—New Bedford, Massachusetts; Application for Reorganization Under Alternative Site Framework

An application has been submitted to the Foreign-Trade Zones (FTZ) Board by the City of New Bedford, grantee of FTZ 28, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 7, 2022.

FTZ 28 was approved by the FTZ Board on April 5, 1977 (Board Order 117, 42 FR 18901, April 11, 1977).

The current zone includes the following sites: Site 1 (13.5 acres)—New Bedford Regional Airport, Aviation Way, New Bedford, Bristol County; and, Site 2 (9 acres)—New Bedford Industrial Park, John Vertente Blvd., New Bedford, Bristol County.

The grantee's proposed service area under the ASF would be Bristol, Barnstable, Dukes, Nantucket, Norfolk and Plymouth Counties, Massachusetts, as described in the application. If approved, the grantee would be able to serve sites throughout the service area based on companies' needs for FTZ designation. The application indicates that the proposed service area is within and adjacent to the New Bedford, Massachusetts Customs and Border Protection port of entry.

The applicant is requesting authority to reorganize its existing zone to include both existing sites as “magnet” sites. No subzones/usage-driven sites are being requested at this time. The application would have no impact on FTZ 28's previously authorized subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is January 13, 2023. Rebuttal comments in response to material submitted during the foregoing period may be submitted during the subsequent 15-day period to January 30, 2023.

A copy of the application will be available for public inspection in the “Online FTZ Information Section” section of the FTZ Board's website, which is accessible via www.trade.gov/ftz. For further information, contact Elizabeth Whiteman at Elizabeth.Whiteman@trade.gov.

Dated: November 7, 2022.
Andrew McGilvray,
Executive Secretary.

[FR Doc. 2022-24709 Filed 11-10-22; 8:45 am]

BILLING CODE 3510-DS-P